DEPARTMENT OF TRANSPORTATION

Federal Aviation Administration

Notice of intent to rule on application 03-04-C-00-AZO To Impose and Use the Revenue From a Passenger Facility Charge (PFC) at Kalamazoo/Battle Creek International Airport, Kalamazoo, MI

AGENCY: Federal Aviation Administration (FAA), DOT.

ACTION: Notice of Intent to Rule on Application.

SUMMARY: The FAA proposes to rule and invites public comment on the application to impose and use the revenue from a PFC at Kalamazoo/Battle Creek International Airport under the provisions of the 49 U.S.C. 40117 and part 158 of the Federal Aviation Regulations (14 CFR part 158).

DATES: Comments must be received on or before March 12, 2003.

ADDRESSES: Comments on this application may be mailed or delivered in triplicate to the FAA at the following address: Federal Aviation Administration, Detroit Airports District Office, Willow Run Airport, East, 8820 Beck Road Belleville, Michigan 48111. The application may be reviewed in person at this location.

In addition, one copy of any comments submitted to the FAA must be mailed or delivered to Mr. Lorence Wenke, Chairman, County of Kalamazoo at the following address: Kalamazoo/Battle Creek International Airport, 5235 Portage Road, Kalamazoo, Michigan, 49002.

Air carriers and foreign air carriers may submit copies of written comments previously provided to the County of Kalamazoo under § 158.23 of part 158.

FOR FURTHER INFORMATION CONTACT: Ms. Arlene B. Draper, Program Manager, Federal Aviation Administration, Detroit Airports District Office, Willow Run Airport, East, 8820 Beck Road, Belleville, Michigan 48111 (734-487-7282). The application may be reviewed in person at this same location.

SUPPLEMENTARY INFORMATION: The FAA proposes to rule and invites public comment on the application to impose and use the revenue from a PFC at Kalamazoo/Battle Creek International Airport under the provisions of the 49 U.S.C. 40117 and part 158 of the Federal Aviation Regulations (14 CFR part 158).

On January 10, 2003, the FAA determined that the application to impose and use the revenue from a PFC submitted by the County of Kalamazoo was substantially complete within the requirements of § 158.25 of part 158. The FAA will approve or disapprove the application, in whole or in part, not later than May 10, 2003.

The following is a brief overview of the application.

Level of the proposed PFC: $3.00.

Proposed charge effective date. December 1, 2003.

Proposed charge expiration date: May 1, 2007.

Total estimated PFC revenue: $2,080,000.

Brief description of proposed projects: Terminal Design-Land Side: Terminal Design-Gates and Bag Claim; Terminal Design-Security Check Point; Terminal Design-Public Terminal Areas; PFC Financial Consulting Service-Phase 1. PFC Financial Consulting Service-Phase Class or classes of air carriers, which the public agency has requested to be required to collect PFCs: Non-scheduled Part 135 and air taxi operators.

Any person may inspect the application in person at the FAA office listed above under FOR FURTHER INFORMATION CONTACT.

In addition, any person may, upon request, inspect the application, notice and other documents germane to the application in person at the County of Kalamazoo.

Issued in Des Plaines, Illinois on January 21, 2003.

Mark McClardy,
Manager, Planning and Programming Branch, Airports Division, Great Lakes Region.

[FR Doc. 03-3272 Filed 2-7-03; 8:45 am]

BILLING CODE 4910-13-M